NATIONAL AERONAUTICS AND SPACE ADMINISTRATION

[Notice 13-069]

NASA Advisory Council; Aeronautics Committee; Unmanned Aircraft Systems Subcommittee; Meeting

AGENCY: National Aeronautics and Space Administration.

ACTION: Notice of Meeting.

SUMMARY: In accordance with the Federal Advisory Committee Act, Public Law 92-463, as amended, the National Aeronautics and Space Administration announces a meeting of the Unmanned Aircraft Systems (UAS) Subcommittee of the Aeronautics Committee of the NASA Advisory Council. The meeting will be held for the purpose of soliciting, from the aeronautics community and other persons, research and technical information relevant to program planning.

DATES: Thursday, July 18, 2013, 8:00 a.m. to 5:00 p.m.; and Friday July 19, 2013, 8:00 a.m. to 1:00 p.m., Local Time.

ADDRESSES: National Aeronautics and Space Administration Headquarters, Room 6E40, 300 E Street SW., Washington, DC 20546.

FOR FURTHER INFORMATION CONTACT: Ms. Brenda L. Mulac, Executive Secretary for the UAS Subcommittee of the Aeronautics Committee, National Aeronautics and Space Administration Headquarters, Washington, DC 20546, (202) 358-1578, or brenda.l.mulac@nasa.gov.

SUPPLEMENTARY INFORMATION: The meeting will be open to the public up to the capacity of the room. Any person interested in participating in the meeting by WebEx and telephone should contact Ms. Brenda L. Mulac at (202) 358-1578 for the web link, toll-free number and passcode. The agenda for the meeting includes the following topics:

• Review of NASA Unmanned Aircraft System (UAS) Integration into the National Airspace System (NAS) Phase 2 Activity Selection

• Discussion on Research Efforts on Autonomy

• Discussion on Final Recommendations Towards Future/Follow On Projects

It is imperative that these meetings be held on this date to accommodate the scheduling priorities of the key participants. Attendees will be requested to sign a register and to comply with NASA security requirements, including the presentation of a valid photo ID to Security before access to NASA Headquarters. Foreign nationals attending this meeting will be required to provide a copy of their passport and visa in addition to providing the following information no less than 10 working days prior to the meeting: Full name; gender; date/place of birth; citizenship; visa information (number, type, expiration date); passport information (number, country, expiration date); employer/affiliation information (name of institution, address, country, telephone); title/position of attendee; and home address to Ms. Brenda L. Mulac at fax 202-358-3602. U.S. citizens and Permanent Residents (green card holders) are requested to submit their name and affiliation 3 working days prior to the meeting to Ms. Brenda L. Mulac at fax 202-358-3602 or email at brenda.l.mulac@nasa.gov. For questions, please call Ms. Brenda L. Mulac at 202-358-1578.

Patricia D. Rausch,
Advisory Committee Management Officer, National Aeronautics and Space Administration.

[FR Doc. 2013-15037 Filed 6-24-13; 8:45 am]

BILLING CODE 7510-13-P